DEPARTMENT OF COMMERCE

International Trade Administration

[A-533-840]

Certain Frozen Warmwater Shrimp from India: Preliminary Results of Antidumping Duty Administrative Review; 2013-2014

AGENCY: Enforcement and Compliance, International Trade Administration, Department of Commerce.

SUMMARY: The Department of Commerce (Department) is conducting an administrative review of the antidumping duty order on certain frozen warmwater shrimp (shrimp) from India. The review covers 211 producers and/or exporters of the subject merchandise. The Department selected two mandatory respondents for individual examination, Devi Fisheries Limited (Devi Fisheries) ¹ and Falcon Marine Exports Limited and its affiliate K.R. Enterprises (collectively, Falcon). The period of review (POR) is February 1, 2013, through January 31, 2014. We preliminarily determine that sales to the United States have been made below normal value and, therefore, are subject to antidumping duties. If these preliminary results are adopted in the final results of this review, we will instruct U.S. Customs and Border Protection (CBP) to assess antidumping duties on all appropriate entries. We invite all interested parties to comment on these preliminary results.

¹ The Department collapsed Devi Fisheries, Satya Seafoods Private Limited and Usha Seafoods during the 2011-2012 administrative review. See Certain Frozen Warmwater Shrimp from India; Preliminary Results of Antidumping Duty Administrative Review; 2011-2012, 78 FR 15691 (March 12, 2013), unchanged in Certain Frozen Warmwater Shrimp from India: Final Results of Antidumping Duty Administrative Review and Final No Shipment Determination; 2011-2012, 78 FR 42492 (July 16, 2013).

DATES: Effective Date: March 6, 2015.

FOR FURTHER INFORMATION CONTACT: Stephen Banea or Blaine Wiltse, AD/CVD Operations, Office II, Enforcement and Compliance, International Trade Administration, U.S. Department of Commerce, 14th Street and Constitution Avenue NW., Washington, DC 20230; telephone: (202) 482-0656, or (202) 482-6345, respectively.

SUPPLEMENTARY INFORMATION:

Scope of the Order

The merchandise subject to the order is certain frozen warmwater shrimp.² The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

² For a complete description of the Scope of the Order, see the memorandum from Christian Marsh, Deputy Assistant Secretary for Antidumping and Countervailing Duty Operations, to Paul Piquado, Assistant Secretary for Enforcement and Compliance, entitled, “Decision Memorandum for the Preliminary Results of the 2013-2014 Administrative Review of the Antidumping Duty Order on Certain Frozen Warmwater Shrimp from India” (dated concurrently with these results) (Preliminary Decision Memorandum), which is hereby adopted by this notice.

Methodology

The Department conducted this review in accordance with section 751(a)(2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS).³ ACCESS is available to registered users at http://access.trade.gov and in the Central Records Unit, Room 7046 of the main Department of Commerce building. In addition, a complete version of the Preliminary Decision Memorandum can be accessed directly at http://enforcement.trade.gov/frn/index.html. The signed Preliminary Decision Memorandum and the electronic version of the Preliminary Decision Memorandum are identical in content. A list of the topics discussed in the Preliminary Decision Memorandum is attached as the Appendix to this notice.

³ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references in the Department's regulations can be found at 79 FR 69046 (November 20, 2014).

Preliminary Results of the Review

As a result of this review, we preliminarily determine that weighted-average dumping margins exist for the respondents for the period February 1, 2013, through January 31, 2014, as follows:

Manufacturer/exporter | Percent margin
Devi Fisheries Limited/Satya Seafoods Private Limited/Usha Seafoods ⁴ | 3.28
Falcon Marine Exports Limited/K.R. Enterprises | 2.63

Review-Specific Average Rate Applicable to the Following Companies: ⁵

⁴ In the Initiation Notice, Satya Seafoods Private Limited (Satya) and Usha Seafoods (Usha) were inadvertently listed both as part of Devi Fisheries Limited and as separate companies. The Department collapsed Devi Fisheries, Satya, and Usha during the 2011-2012 administrative review. See Certain Frozen Warmwater Shrimp from India; Preliminary Results of Antidumping Duty Administrative Review; 2011-2012, 78 FR 15691 (March 12, 2013), unchanged in Certain Frozen Warmwater Shrimp from India: Final Results of Antidumping Duty Administrative Review and Final No Shipment Determination; 2011-2012, 78 FR 42492 (July 16, 2013). See also Certain Frozen Warmwater Shrimp from India and Thailand: Notice of Initiation of Antidumping Duty Administrative Reviews, 79 FR 18510 (April 2, 2014) (Initiation Notice). We hereby clarify that we are reviewing these companies as part of the Devi Fisheries Group, and we hereinafter refer to the Devi Fisheries Group as Devi Fisheries.

⁵ This rate is based on the simple average of the margins calculated for those companies selected for individual review. Because we cannot apply our normal methodology of calculating a weighted-average margin due to requests to protect business proprietary information, we find this rate to be the best proxy of the actual weighted-average margin determined for the mandatory respondents. See Ball Bearings and Parts Thereof From France, et al.: Final Results of Antidumping Duty Administrative Reviews, Final Results of Changed-Circumstances Review, and Revocation of an Order in Part, 75 FR 53661, 53663 (September 1, 2010); see also the memorandum from Blaine Wiltse, Senior International Trade Compliance Analyst, to the file, entitled, “Calculation of the Review-Specific Average Rate in the 2013-2014 Administrative Review of Certain Frozen Warmwater Shrimp from India” (dated concurrently with these results).

Manufacturer/exporter | Percent margin
Abad Fisheries | 2.96
Accelerated Freeze-Drying Co | 2.96
Adilakshmi Enterprises | 2.96
Akshay Food Impex Private Limited | 2.96
Allana Frozen Foods Pvt. Ltd | 2.96
Allanasons Ltd | 2.96
AMI Enterprises | 2.96
Amulya Seafoods | 2.96
Anand Aqua Exports | 2.96
Ananda Aqua Applications/Ananda Aqua Exports (P) Limited/Ananda Foods | 2.96
Ananda Enterprises (India) Private Limited | 2.96
Andaman Sea Foods Pvt. Ltd | 2.96
Angelique Intl | 2.96
Anjaneya Seafoods | 2.96
Apex Frozen Foods Private Limited | 2.96
Arvi Import & Export | 2.96
Asvini Exports | 2.96
Asvini Fisheries Private Limited | 2.96
Avanti Feeds Limited | 2.96
Ayshwarya Seafood Private Limited | 2.96
Baby Marine Exports | 2.96
Baby Marine International | 2.96
Baby Marine Sarass | 2.96
Balasore Marine Exports Private Limited | 2.96
Bhatsons Aquatic Products | 2.96
Bhavani Seafoods | 2.96
Bijaya Marine Products | 2.96
Blue Fin Frozen Foods Pvt. Ltd | 2.96
Blue Water Foods & Exports P. Ltd | 2.96
Bluefin Enterprises | 2.96
Bluepark Seafoods Private Ltd | 2.96
BMR Exports | 2.96
Britto Exports | 2.96
C P Aquaculture (India) Ltd | 2.96
Calcutta Seafoods Pvt. Ltd | 2.96
Canaan Marine Products | 2.96
Capithan Exporting Co | 2.96
Castlerock Fisheries Ltd | 2.96
Chemmeens (Regd) | 2.96
Cherukattu Industries (Marine Div.) | 2.96
Choice Canning Company | 2.96
Choice Trading Corporation Private Limited | 2.96
Coastal Aqua | 2.96
Coastal Corporation Ltd | 2.96
Cochin Frozen Food Exports Pvt. Ltd | 2.96
Coreline Exports | 2.96
Corlim Marine Exports Pvt. Ltd | 2.96
D2 D Logistics Private Limited | 2.96
Damco India Private Limited | 2.96
Delsea Exports Pvt. Ltd | 2.96
Devi Marine Food Exports Private Ltd./Kader Exports Private Limited/Kader Investment and Trading Company Private Limited/Liberty Frozen Foods Pvt. Ltd./Liberty Oil Mills Ltd./Premier Marine Products Private Limited/ ⁶ Universal Cold Storage Private Limited | 2.96
Devi Sea Foods Limited ⁷ | 2.96
Diamond Seafood Exports/Edhayam Frozen Foods Pvt. Ltd./Kadalkanny Frozen Foods/Theva & Company | 2.96
Digha Seafood Exports | 2.96
Esmario Export Enterprises | 2.96
Exporter Coreline Exports | 2.96
Five Star Marine Exports Private Limited | 2.96
Forstar Frozen Foods Pvt. Ltd | 2.96
Frontline Exports Pvt. Ltd | 2.96
G A Randerian Ltd | 2.96
Gadre Marine Exports | 2.96
Galaxy Maritech Exports P. Ltd | 2.96
Gayatri Seafoods | 2.96
Geo Aquatic Products (P) Ltd | 2.96
Geo Seafoods | 2.96
Goodwill Enterprises | 2.96
Grandtrust Overseas (P) Ltd | 2.96
GVR Exports Pvt. Ltd | 2.96
Haripriya Marine Export Pvt. Ltd | 2.96
Harmony Spices Pvt. Ltd | 2.96
HIC ABF Special Foods Pvt. Ltd | 2.96
Hindustan Lever, Ltd | 2.96
Hiravata Ice & Cold Storage | 2.96
Hiravati Exports Pvt. Ltd | 2.96
Hiravati International P. Ltd. (located at APM—Mafco Yard, Sector—18, Vashi, Navi, Mumbai—400 705, India) | 2.96
Hiravati International Pvt. Ltd. (located at Jawar Naka, Porbandar, Gujarat, 360 575, India) | 2.96
IFB Agro Industries Ltd | 2.96
Indian Aquatic Products | 2.96
Indo Aquatics | 2.96
Innovative Foods Limited | 2.96
International Freezefish Exports | 2.96
Interseas | 2.96
ITC Limited, International Business | 2.96
ITC Ltd | 2.96
Jagadeesh Marine Exports | 2.96
Jaya Satya Marine Exports | 2.96
Jaya Satya Marine Exports Pvt. Ltd | 2.96
Jayalakshmi Sea Foods Private Limited | 2.96
Jinny Marine Traders | 2.96
Jiya Packagings | 2.96
K R M Marine Exports Ltd | 2.96
K V Marine Exports | 2.96
Kalyan Aqua & Marine Exports India Pvt. Ltd | 2.96
Kalyanee Marine | 2.96
Kanch Ghar | 2.96
Kay Kay Exports | 2.96
Kings Marine Products | 2.96
KNC Agro Pvt. Ltd | 2.96
Koluthara Exports Ltd | 2.96
Konark Aquatics & Exports Pvt. Ltd | 2.96
Landauer Ltd | 2.96
Libran Cold Storages (P) Ltd | 2.96
Lighthouse Trade Links Pvt. Ltd | 2.96
Magnum Estates Limited | 2.96
Magnum Export | 2.96
Magnum Sea Foods Limited | 2.96
Malabar Arabian Fisheries | 2.96
Malnad Exports Pvt. Ltd | 2.96
Mangala Marine Exim India Pvt. Ltd | 2.96
Mangala Sea Products | 2.96
Mangala Seafoods | 2.96
Meenaxi Fisheries Pvt. Ltd | 2.96
MSC Marine Exporters | 2.96
MSRDR Exports | 2.96
Munnangi Sea Foods (Pvt) Ltd. ⁸ | 2.96
MTR Foods | 2.96
N.C. John & Sons (P) Ltd | 2.96
Naga Hanuman Fish Packers | 2.96
Naik Frozen Foods Private Limited | 2.96
Naik Seafoods Ltd | 2.96
Navayuga Exports | 2.96
Nekkanti Sea Foods Limited | 2.96
Nezami Rekha Sea Food Private Limited | 2.96
NGR Aqua International | 2.96
Nila Sea Foods Pvt. Ltd | 2.96
Nine Up Frozen Foods | 2.96
Nutrient Marine Foods Limited | 2.96
Overseas Marine Export | 2.96
Paragon Sea Foods Pvt. Ltd | 2.96
Parayil Food Products Pvt. Ltd | 2.96
Penver Products Pvt. Ltd | 2.96
Pesca Marine Products Pvt. Ltd | 2.96
Pijikay International Exports P Ltd | 2.96
Pisces Seafood International | 2.96
Premier Exports International | 2.96
Premier Marine Foods | 2.96
Premier Seafoods Exim (P) Ltd | 2.96
R V R Marine Products Limited | 2.96
Raa Systems Pvt. Ltd | 2.96
Raju Exports | 2.96
Ram's Assorted Cold Storage Ltd | 2.96
Raunaq Ice & Cold Storage | 2.96
Raysons Aquatics Pvt. Ltd | 2.96
Razban Seafoods Ltd | 2.96
RBT Exports | 2.96
RDR Exports | 2.96
Riviera Exports Pvt. Ltd | 2.96
Rohi Marine Private Ltd | 2.96
S & S Seafoods | 2.96
S. A. Exports | 2.96
S Chanchala Combines | 2.96
Safa Enterprises | 2.96
Sagar Foods | 2.96
Sagar Grandhi Exports Private Limited | 2.96
Sagar Samrat Seafoods | 2.96
Sagarvihar Fisheries Pvt. Ltd | 2.96
Sai Marine Exports Pvt. Ltd | 2.96
Sai Seafoods | 2.96
Sanchita Marine Products Private Limited | 2.96
Sandhya Aqua Exports | 2.96
Sandhya Aqua Exports Pvt. Ltd | 2.96
Sandhya Marines Limited | 2.96
Santhi Fisheries & Exports Ltd | 2.96
Sarveshwari Exports | 2.96
Sawant Food Products | 2.96
Sea Foods Private Limited | 2.96
Seagold Overseas Pvt. Ltd | 2.96
Selvam Exports Private Limited | 2.96
Sharat Industries Ltd | 2.96
Shimpo Exports Pvt. Ltd | 2.96
Shippers Exports | 2.96
Shiva Frozen Food Exp. Pvt. Ltd | 2.96
Shree Datt Aquaculture Farms Pvt. Ltd | 2.96
Shroff Processed Food & Cold Storage P Ltd | 2.96
Silver Seafood | 2.96
Sita Marine Exports | 2.96
Sowmya Agri Marine Exports | 2.96
Sprint Exports Pvt. Ltd | 2.96
Sri Chandrakantha Marine Exports | 2.96
Sri Sakkthi Cold Storage | 2.96
Sri Sakthi Marine Products P Ltd | 2.96
Sri Satya Marine Exports | 2.96
Sri Venkata Padmavathi Marine Foods Pvt. Ltd | 2.96
Srikanth International | 2.96
SSF Ltd | 2.96
Star Agro Marine Exports Private Limited | 2.96
Star Organic Foods Incorporated | 2.96
Sun-Bio Technology Ltd | 2.96
Supran Exim Private Limited | 2.96
Suryamitra Exim Pvt. Ltd | 2.96
Suvarna Rekha Exports Private Limited | 2.96
Suvarna Rekha Marines P Ltd | 2.96
TBR Exports Pvt Ltd | 2.96
Teekay Marine P. Ltd | 2.96
Tejaswani Enterprises | 2.96
The Waterbase Ltd | 2.96
Triveni Fisheries P Ltd | 2.96
Uniloids Biosciences Private Limited | 2.96
Uniroyal Marine Exports Ltd | 2.96
Unitriveni Overseas | 2.96
V.S Exim Pvt Ltd | 2.96
Vasista Marine | 2.96
Veejay Impex | 2.96
Victoria Marine & Agro Exports Ltd | 2.96
Vinner Marine | 2.96
Vishal Exports | 2.96
Wellcome Fisheries Limited | 2.96
West Coast Frozen Foods Private Limited | 2.96
Z A Sea Foods Pvt. Ltd | 2.96

Disclosure and Public Comment

The Department intends to disclose to interested parties the calculations performed in connection with these preliminary results within five days of the date of publication of this notice.⁹ Pursuant to 19 CFR 351.309(c), interested parties may submit case briefs not later than 30 days after the date of publication of this notice. Rebuttal briefs, limited to issues raised in the case briefs, may be filed not later than five days after the date for filing case briefs.¹⁰ Parties who submit case briefs or rebuttal briefs in this proceeding are encouraged to submit witheach argument: (1) A statement of the issue; (2) a brief summary of the argument; and (3) a table of authorities.¹¹ Case and rebuttal briefs should be filed using ACCESS.¹²

⁶ On December 2, 2014, Premier Marine Products Private Limited was found to be the successor-in-interest to Premier Marine Products. See Notice of Final Results of Antidumping Duty Changed Circumstances Review: Certain Frozen Warmwater Shrimp from India, 79 FR 71384 (December 2, 2014).

⁷ Shrimp produced and exported by Devi Sea Foods (Devi) was excluded from this order effective February 1, 2009. See Certain Frozen Warmwater Shrimp From India: Final Results of Antidumping Duty Administrative Review, Partial Rescission of Review, and Notice of Revocation of Order in Part, 75 FR 41813, 41814 (July 19, 2010). However, shrimp produced by other Indian producers and exported by Devi remain subject to the order. Thus, this administrative review with respect to Devi covers only shrimp which was produced in India by other companies and exported by Devi.

⁸ In the Initiation Notice, we inadvertently omitted one company, Munnangi Sea Foods (Pvt) Ltd., for which a timely review request was received with respect to the current review. Accordingly, as a correction to the Initiation Notice, this company was included in the Initiation of Antidumping and Countervailing Duty Administrative Reviews and Request for Revocation in Part, 79 FR 24398 (April 30, 2014).

⁹ See 19 CFR 351.224(b).

¹⁰ See 19 CFR 351.309(d).

¹¹ See 19 CFR 351.309(c)(2) and (d)(2).

¹² See 19 CFR 351.303.

Pursuant to 19 CFR 351.310(c), interested parties who wish to request a hearing, or to participate if one is requested, must submit a written request to the Assistant Secretary for Enforcement and Compliance, filed electronically via ACCESS. An electronically-filed document must be received successfully in its entirety by the Department's electronic records system, ACCESS, by 5 p.m. Eastern Standard Time within 30 days after the date of publication of this notice.¹³ Requests should contain: (1) The party's name, address and telephone number; (2) the number of participants; and (3) a list of issues to be discussed. Issues raised in the hearing will be limited to those raised in the respective case briefs. The Department will issue the final results of this administrative review, including the results of its analysis of issues raised in any written briefs, not later than 120 days after the date of publication of this notice, pursuant to section 751(a)(3)(A) of the Act.

¹³ See 19 CFR 351.310(c).

Assessment Rates

Upon completion of the administrative review, the Department shall determine, and CBP shall assess, antidumping duties on all appropriate entries, in accordance with 19 CFR 351.212(b)(1).

Pursuant to 19 CFR 351.212(b)(1), because Devi Fisheries and Falcon reported the entered value for all of their U.S. sales, we have calculated importer-specific ad valorem duty assessment rates based on the ratio of the total amount of antidumping duties calculated for the examined sales to the total entered value of the sales for which entered value was reported. To determine whether the duty assessment rates are de minimis, in accordance with the requirement set forth in 19 CFR 351.106(c)(2), we have calculated importer-specific ad valorem ratios based on the entered value.

For the companies which were not selected for individual review, we will calculate an assessment rate based on the average ¹⁴ of the cash deposit rates calculated for the companies selected for mandatory review (i.e., Devi Fisheries and Falcon) excluding any which are de minimis or determined entirely on adverse facts available.

¹⁴ Calculated as discussed in footnote 5 above.

The Department clarified its “automatic assessment” regulation on May 6, 2003. This clarification will apply to entries of subject merchandise during the POR produced by Devi Fisheries or Falcon for which these companies did not know that the merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recent period; (3) if the exporter is not a firm covered in this review, or the original less-than-fair-value (LTFV) investigation, but the manufacturer is, the cash deposit rate will be the rate established for the most recent period for the manufacturer of the merchandise; and (4) the cash deposit rate for all other manufacturers or exporters will continue to be 10.17 percent, the all-others rate made effective by the LTFV investigation.¹⁵ These deposit requirements, when imposed, shall remain in effect until further notice.

¹⁵ See Notice of Amended Final Determination of Sales at Less Than Fair Value and Antidumping Duty Order: Certain Frozen Warmwater Shrimp from India, 70 FR 5147, 5148 (February 1, 2005).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: March 2, 2015.
Paul Piquado,
Assistant Secretary for Enforcement and Compliance.

Appendix

List of Topics Discussed in the Preliminary Decision Memorandum

1. Summary

2. Background

3. Scope of the Order

4. Discussion of the Methodology

a. Normal Value Comparisons

b. Determination of Comparison Method

c. Product Comparisons

d. Export Price

e. Normal Value

5. Currency Conversion

6. Recommendation

[FR Doc. 2015-05289 Filed 3-5-15; 8:45 am]

BILLING CODE 3510-DS-P